DEPARTMENT OF HEALTH AND HUMAN SERVICES

Meetings of the Presidential Advisory Council on Combating Antibiotic-Resistant Bacteria

AGENCY: Office of the Assistant Secretary for Health, Office of the Secretary, Department of Health and Human Services.

ACTION: Notice.

SUMMARY: As stipulated by the Federal Advisory Committee Act, the Department of Health and Human Services (HHS) is hereby giving notice that an in-person meeting is scheduled to be held for the Presidential Advisory Council on Combating Antibiotic-Resistant Bacteria (PACCARB); the main focus of the meeting is to solicit feedback from invited presenters and members of the public on the 2025-2020 National Action Plan on Combating Antibiotic Resistant Bacteria. The meeting will be open to the public as well as streamed live on hhs.gov/live. A pre-registered public comment and innovation spotlight session will be held during the meeting. Pre-registration is required for members of the public who wish to present their comments or innovations live during the meeting.

DATES: The meeting is scheduled to be held on January 28-29, 2025, from 9 a.m. to 5 p.m. ET (times are tentative and subject to change). The confirmed times and agenda items for the meeting will be posted on the website for the PACCARB at https://www.hhs.gov/paccarb when this information becomes available. Pre-registration for attending the meeting is strongly suggested and should be completed no later than January 24, 2025.

ADDRESSES: The meeting will be held in-person at The Ritz-Carlton, Pentagon City, 1250 S. Hayes St., Arlington, VA 22202. The meeting will also be live streamed and can be accessed through a live webcast on the day of the meeting. Additional instructions regarding attending this meeting virtually will be posted at least one week prior to the meeting at: https://www.hhs.gov/paccarb.

Individuals who wish to send in their written public comment should submit it via email to CARB@hhs.gov. Registration information is available on the website https://www.hhs.gov/paccarb and must be completed by January 24, 2025, to attend the January 28-29, 2025, public meeting or by January 21, 2025, to provide public comment or innovation spotlight at the meeting. Additional information about registering for the meeting and providing public comment can be obtained at https://www.hhs.gov/paccarb on the Upcoming Meetings page.

FOR FURTHER INFORMATION CONTACT: Jomana Musmar, M.S., Ph.D., Designated Federal Officer, Presidential Advisory Council on Combating Antibiotic-Resistant Bacteria, Office of the Assistant Secretary for Health, U.S. Department of Health and Human Services, 1101 Wootton Parkway, Rockville, MD 20852. Phone: 202-746-1512; Email: CARB@hhs.gov.

SUPPLEMENTARY INFORMATION: The Presidential Advisory Council on Combating Antibiotic-Resistant Bacteria (PACCARB), established by Executive Order 13676, is continued by section 505 of Public Law 116-22, the Pandemic and All-Hazards Preparedness and Advancing Innovation Act of 2019 (PAHPAIA). Activities and duties of the PACCARB are governed by the provisions of the Federal Advisory Committee Act (FACA), Public Law 92-463, as amended (5 U.S.C. app.), which sets forth standards for the formation and use of Federal advisory committees.

The PACCARB shall advise and provide information and recommendations to the Secretary of Health and Human Services (Secretary) regarding programs and policies intended to reduce or combat antibiotic-resistant bacteria that may present a public health threat and improve capabilities to prevent, diagnose, mitigate, or treat such resistance. The PACCARB shall function solely for advisory purposes.

Such advice, information, and recommendations may be related to improving: the effectiveness of antibiotics; research and advanced research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States capabilities to combat antibiotic resistance.

The focus of the January 28-29, 2025, meeting is to provide input and information to the Combating Antibiotic-Resistant Bacteria (CARB) Federal Task Force as they develop the next five-year iteration of the CARB National Action Plan 2025-2030. The meeting will focus on innovative and emerging topics in antimicrobial resistance (AMR), as well as insights from international CARB counterparts. The topics presented at the public meeting include: an overview of other partner country CARB National Action Plans; methods to measure global awareness of AMR; the impact of AMR and food security; AMR as a national security threat; a reflection on the United Nations General Assembly Political Declaration by Federal agencies; the economics of AMR; innovations to combat AMR; among other topics.

Members of the public are invited to provide comment, especially on the 2025-2030 CARB National Action Plan, during an extended public comment session, in-person during the meeting by pre-registering online at https://www.hhs.gov/paccarb; pre-registration is required for participation in this session. Additionally, companies or organizations working to combat antimicrobial resistance my share their innovation during the January meeting by pre-registering to speak during the meeting's Innovation Spotlight. Pre-registration online at https://www.hhs.gov/paccarb is required for participation in this session, and limited spots are available. The meeting agenda will be posted on the PACCARB website at https://www.hhs.gov/paccarb when it has been finalized. All agenda items are tentative and subject to change. Instructions regarding attending the meeting virtually will be posted at least one week prior to the meeting at: https://www.hhs.gov/paccarb. For those unable to attend in person, but who wish to provide input into the next iteration of the CARB National Action Plan 2025-2030, may provide written public comments that can be emailed to CARB@hhs.gov by midnight January 21, 2025. All public comments received via email prior to January 21, 2025, will be provided to the PACCARB and Interagency CARB Task Force members.

Dated: November 18, 2024.
Jomana F. Musmar,
Designated Federal Officer, Presidential Advisory Council on Combating Antibiotic-Resistant Bacteria, Office of the Assistant Secretary for Health.

[FR Doc. 2024-28075 Filed 11-27-24; 8:45 am]

BILLING CODE 4150-44-P